FEDERAL RESERVE SYSTEM

Formations of, Acquisitions by, and Mergers of Bank Holding Companies; Correction

This notice corrects a notice (FR Doc. E8-3313) published on page 9806 of the issue for Friday, February 22, 2008.

Under the Federal Reserve Bank of New York heading, the entry for Tompkins Financial Corporation, Ithaca, New York, is revised to read as follows:

A. Federal Reserve Bank of New York (Anne MacEwen, Bank Applications Officer) 33 Liberty Street, New York, New York 10045-0001:

1. Tompkins Financial Corporation, Ithaca, New York; to acquire and thereby merge with Sleepy Hollow Bancorp Inc., and thereby indirectly acquire voting shares of Sleepy Hollow Bank, both of Sleepy Hollow, New York.

Comments on this application must be received by March 20, 2008.

Board of Governors of the Federal Reserve System, February 29, 2008.
Robert deV. Frierson,
Deputy Secretary of the Board.

[FR Doc. E8-4212 Filed 3-4-08 8:45 am]

BILLING CODE 6210-01-S